DEPARTMENT OF HOMELAND SECURITY

Coast Guard

33 CFR Part 165

[Docket No. USCG-2013-0262]

Safety Zone; Fireworks Event in Captain of the Port New York Zone

AGENCY: Coast Guard, DHS.

ACTION: Notice of enforcement of regulation.

SUMMARY: The Coast Guard will enforce safety zones in the Captain of the Port New York Zone on the specified dates and times. This action is necessary to ensure the safety of vessels and spectators from hazards associated with fireworks displays. During the enforcement period, no person or vessel may enter the safety zones without permission of the Captain of the Port (COTP).

DATES: The regulation for the safety zones described in 33 CFR 165.160 will be enforced on the dates and times listed in the table below.

FOR FURTHER INFORMATION CONTACT: If you have questions on this notice, call or email Ensign Kimberly Beisner, Coast Guard; telephone 718-354-4163, email Kimberly.A.Beisner@uscg.mil.

SUPPLEMENTARY INFORMATION: The Coast Guard will enforce the safety zones listed in 33 CFR 165.160 on the specified dates and times as indicated in Table 1 below. This regulation was published in the Federal Register on November 9, 2011 (76 FR 69614).

Table 1
1. Hope for Warriors Fireworks, Seaport, East River Safety Zone, 33 CFR 165.160(4.4) | • Launch site: All waters of the East River south of the Brooklyn Bridge and north of a line drawn from the southwest corner of Pier 3, Brooklyn, to the southeast corner of Pier 6, Manhattan.
| • Date: June 11, 2013.
| • Time: 8:30 p.m.-9:40 p.m.
2. Naders 40th Birthday, Newtown Creek, East River Safety Zone, 33 CFR 165.160(4.2) | • Launch site: A barge located in approximate position 40°44′24″ N, 073°58′00″ W (NAD 1983), approximately 785 yards south of Belmont Island. This Safety Zone is a 360-yard radius from the barge.
| • Date: June 15, 2013.
| • Time: 10:00 p.m.-11:10 p.m.
3. 2013 Independence Celebration Fireworks, Glen Cove, Hempstead Harbor Safety Zone, 33 CFR 165.160(3.8) | • Launch site: A barge located in approximate position 40°51′58″ N, 073°39′34″ W (NAD 1983), approximately 500 yards northeast of Glen Cove Breakwater Light 5 (LLNR 27065). This Safety Zone is a 360-yard radius from the barge.
| • Date: July 4, 2013.
| • Time: 8:45 p.m.-10:00 p.m.
4. City of Newburgh Celebration, Newburgh, NY, Hudson River Safety Zone, 33 CFR 165.160(3.8) | • Launch site: A barge located in approximate position 41°30′01.2″ N, 073°59′42.5″ W (NAD 1983), approximately 930 yards east of Newburgh New York. This Safety Zone is a 360-yard radius from the barge.
| • Date: July 4, 2013.
| • Time: 8:30 p.m.-10:10 p.m.

Under the provisions of 33 CFR 165.160, a vessel may not enter the regulated area unless given express permission from the COTP or the designated representative. Spectator vessels may transit outside the regulated area but may not anchor, block, loiter in, or impede the transit of other vessels. The Coast Guard may be assisted by other Federal, State, or local law enforcement agencies in enforcing this regulation.

This notice is issued under authority of 33 CFR 165.160(a) and 5 U.S.C. 552(a). In addition to this notice in the Federal Register, the Coast Guard will provide mariners with advanced notification of enforcement periods via the Local Notice to Mariners and marine information broadcasts. If the COTP determines that the regulated area need not be enforced for the full duration stated in this notice, a Broadcast Notice to Mariners may be used to grant general permission to enter the regulated area.

Dated: April 22, 2013.
G. Loebl,
Captain, U.S. Coast Guard, Captain of the Port New York.

[FR Doc. 2013-10774 Filed 5-6-13; 8:45 am]

BILLING CODE 9110-04-P